DEPARTMENT OF VETERANS AFFAIRS

[OMB Control No. 2900-New (VA Form 10-0515)]

Agency Information Collection (Spinal Cord Injury Patient Care Survey) Under OMB Review

AGENCY: Veterans Benefits Administration, Department of Veterans Affairs.

ACTION: Notice.

SUMMARY: In compliance with the Paperwork Reduction Act (PRA) of 1995 (44 U.S.C. 3501-3521), this notice announces that the Veterans Benefits Administration (VBA), Department of Veterans Affairs, will submit the collection of information abstracted below to the Office of Management and Budget (OMB) for review and comment. The PRA submission describes the nature of the information collection and its expected cost and burden; it includes the actual data collection instrument.

DATES: Comments must be submitted on or before December 19, 2011.

ADDRESSES: Submit written comments on the collection of information through http://www.Regulations.gov or to VA's OMB Desk Officer, OMB Human Resources and Housing Branch, New Executive Office Building, Room 10235, Washington, DC 20503, (202) 395-7316. Please refer to “OMB Control No. 2900-New (VA Form 10-0515)” in any correspondence.

FOR FURTHER INFORMATION CONTACT: Denise McLamb, Enterprise Records Service (005R1B), Department of Veterans Affairs, 810 Vermont Avenue NW, Washington, DC 20420, (202) 461-7485, FAX (202) 461-0966 or email denise.mclamb@va.gov. Please refer to “OMB Control No. 2900-New (VA Form 10-0515).”

SUPPLEMENTARY INFORMATION: Title: Spinal Cord Injury Patient Care Survey, VA Form 10-0515.

OMB Control Number: OMB Control No. New (VA Form 10-0515).

Type of Review: New Collection.

Abstract: Information collected on VA Form 10-0515 will be used to determine spinal cord patients' satisfaction with VA rehabilitation and health care system.

An agency may not conduct or sponsor, and a person is not required to respond to a collection of information unless it displays a currently valid OMB control number. The Federal Register Notice with a 60-day comment period soliciting comments on this collection of information was published on September 13, 2011, at page 56504.

Affected Public: Individuals or households.

Estimated Annual Burden: 33.

Frequency of Response: One time.

Estimated Average Burden per Respondents: 10 minutes.

Estimated Annual Responses: 200.

Dated: November 15, 2011.
By direction of the Secretary.
Denise McLamb,
Program Analyst, Enterprise Records Service.

[FR Doc. 2011-29821 Filed 11-17-11; 8:45 am]

BILLING CODE 8320-01-P